DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before September 27, 2012. Address written comments to Statutory Import Programs Staff, Room 3720, U.S. Department of Commerce, Washington, DC 20230. Applications may be examined between 8:30 a.m. and 5:00 p.m. at the U.S. Department of Commerce in Room 3720.

Docket Number: 12-034. Applicant: Stony Brook University, 100 Nicolls Rd., Stony Brook, NY 11794. Instrument: Electron Microscope. Manufacturer: JEOL Ltd., Japan. Intended Use: The instrument will be used to study the morphology and crystalline structure of metallic, semi-conductor, or polymeric materials. Justification for Duty-Free Entry: There are no instruments of the same general category manufactured in the United States. Application accepted by Commissioner of Customs: July 11, 2012.

Docket Number: 12-035. Applicant: The City College of New York, Office of the Dean of Science, Marshak 1320, 160 Convent Ave., New York, NY 10031. Instrument: Electron Microscope. Manufacturer: JEOL Ltd., Japan. Intended Use: The instrument will be used for several projects including the examination of the distribution of intracellular proteins that mediate the ligand-mediated chemotaxis of cells within a micro-controlled environment, the study of nanoparticles, and the structure of influenza vaccine strains. Justification for Duty-Free Entry: There are no instruments of the same general category manufactured in the United States. Application accepted by Commissioner of Customs: July 30, 2012.

Dated: August 30, 2012.
Callie H. Conroy,
Acting Director of Subsidies Enforcement, Import Administration.

[FR Doc. 2012-22113 Filed 9-6-12; 8:45 am]

BILLING CODE 3510-DS-P